DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period April 19, 2002-May 16, 2002
Firm name | Address | Date petition accepted | Product
Zenith Fuel Systems, Inc | 14570 Industrial Park Rd., Bristol, VA 24202 | 04/25/02 | Carburetors for internal combustion engines.
Northwest Wood Products, Inc | 850 West Old Kettle Rd., Kettle Falls, WA 99141 | 04/25/02 | Pine wood boards and brackets.
Eagle Tool, Inc | 430 Kinsley Avenue, Providence, RI 02909 | 04/29/02 | Base metal jewelry parts (findings).
Kendrick Pecan Company, Inc | 302 Brown Avenue, Columbus, GA 31903 | 04/29/02 | Gourmet flavored spirit cakes and pecan confections.
Orycon Control Technology, Inc | 3407 Rose Avenue, Ocean City, NJ 07712 | 04/30/02 | Hot runner temperature controls for plastic injection molding manufacturers.
Precision Die and Machine Co., Inc | 1400 S. Carney Drive, St. Clair, MI 48079 | 04/30/02 | Injection molds for the automotive industry.
Old Dominion Wood Products, Inc | 800 Craddock Street, Lynchburg, VA 24501 | 05/01/02 | Wooden chairs for the restaurant industry.
Seco Spice Co., Ltd | 76 E. Cottonwood, Artesia, NM 88210 | 05/01/02 | Dehydrated paprika.
Liberty Brass Turning Co., Inc | 3801 Queens Boulevard, Long Island, NY 11101 | 05/01/02 | Screw machine parts for lamps and lighting fixtures.
Tesko Welding & Manufacturing Co., Inc | 7350 W. Montrose Ave., Norridge, IL 60706 | 05/01/02 | Steel stakes, cut from bars and drilled for propping up concrete forms.
Clearwood, L.L.C | 270 Clearwood Drive, Whittier, NC 28789 | 05/01/02 | Finger joint board.
Fiber Pad, Inc | P. O. Box 690660, Tulsa, OK 74169 | 05/02/02 | Thermoformed automotive parts and equipment.
Tulsa Tube Bending Co., Inc | 4192 South Galveston, Tulsa, OK 74107 | 05/02/02 | Fabricated pipe and fittings used in the petrochemical, power and refining industries.
Advantage Buildings & Exteriors, Inc | 8635 West 21st Street, Sand Springs, OK 74063 | 05/02/02 | Exterior siding.
Plastic Extruded Products Co. | 1430 Chestnut Avenue, Hillside, NJ 07205 | 05/02/02 | Thermoplastic tubing, rods and profiles.
Carolina Casting, Inc | 1416 Progress Avenue, High Point, NC 27260 | 05/02/02 | Furniture trim, table bases and home furnishing accessories of resin compound.
Claude's Sauces, Inc | 935 Loma Verde, El Paso, TX 79936 | 05/16/02 | Sauces—barbecue, steak and marinate.
Alphabet Embroidery Studios, Inc | 1291 Bellbrook Avenue, Xenia, OH 45385 | 05/16/02 | Cloth embroidery badges, monogram letters sewn into clothing.
Statton Furniture Manufacturing Co. | 504 East First Street, Hagerstown, MD 21741 | 05/16/02 | Wooden furniture for the home.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: May 21, 2002.
Anthony J. Meyer,
Coordinator, Trade Adjustment and Technical Assistance.

[FR Doc. 02-13316 Filed 5-28-02; 8:45 am]

BILLING CODE 3510-24-P